DEPARTMENT OF THE INTERIOR

Bureau of Reclamation

Upper San Joaquin River Basin Storage Investigation, Central Valley Project, CA

AGENCY: Bureau of Reclamation, Interior.

ACTION: Notice of intent to prepare an environmental impact statement (EIS).

SUMMARY: The Department of the Interior, Bureau of Reclamation (Reclamation), will prepare an EIS, pursuant to the National Environmental Policy Act (NEPA), to evaluate proposed actions to increase the storage of water from the San Joaquin River. Potential uses of stored water may include: contribution to future restoration of the San Joaquin River, improvement of water quality in the San Joaquin River, or water deliveries that could facilitate additional conjunctive management or exchanges that improve the quality of water to urban areas.

DATES: Four scoping meetings will be held to solicit comments from interested parties to assist in determining the scope of the environmental analysis and to identify the significant issues related to the proposed action. The meeting dates are:

• Tuesday, March 16, 2004, 9:30-11:30 a.m., Sacramento, CA

• Tuesday, March 16, 2004, 6-8 p.m., Modesto, CA

• Wednesday, March 17, 2004, 6-8 p.m., Friant, CA

• Thursday, March 18, 2004, 6-8 p.m., Visalia, CA

Written comments on the scope of the environmental document should be mailed to Reclamation at the address below by April 16, 2004.

ADDRESSES: The meeting locations are as follows:

• Sacramento, CA—Federal Building, Cafeteria Conference Room 1, 2800 Cottage Way

• Modesto, CA—Modesto Irrigation District, Multipurpose Room, 1231 11th Street

• Friant, CA—Table Mountain Rancheria, Governmental Building, 23736 Sky Harbour Road

• Visalia, CA—Tulare County Farm Bureau, 737 Ben Maddox Way

Written comments on the scope of the alternatives and impacts to be considered should be sent to Mr. Jason Phillips, Bureau of Reclamation, Division of Planning, 2800 Cottage Way, Sacramento, CA 95825; or by telephone at (916) 978-5070, or faxed to (916) 978-5094.

FOR FURTHER INFORMATION CONTACT: Mr. Jason Phillips, Bureau of Reclamation, Division of Planning, at (916) 978-5070; or Waiman Yip, Project Manager, California Department of Water Resources, P.O. Box 942836, Sacramento, CA 94236-0001, phone (916) 651-9280. If you would like to be included on the EIS/EIR mailing list, please contact Marian Echeverria at (916) 978-5105 or mecheverria@mp.usbr.gov.

SUPPLEMENTARY INFORMATION: The CALFED Programmatic EIS Record of Decision (ROD) described five potential surface storage projects and recommended additional study to determine the potential for the projects to meet identified objectives. One such project would involve water storage in the Upper San Joaquin River Basin through the enlargement of Friant Dam or other alternatives. Friant Dam on the San Joaquin River is owned and operated by Reclamation as part of the Central Valley Project (CVP). Federal authorization for preparation of a feasibility report was provided in Public Law 108-7, Division D, Title II, section 215, the Omnibus Appropriations legislation for Fiscal Year 2003. Reclamation is the responsible Federal agency for preparation of this report.

The ROD recognized that additional storage in the Upper San Joaquin River Basin could contribute to future restoration of the San Joaquin River. The reach of the San Joaquin River from Friant Dam to the confluence with the Merced River does not support a continuous natural riparian and aquatic ecosystem. Since completion of Friant Dam, most of the water supply in the San Joaquin River has been diverted for agricultural and urban uses with the exception of releases to satisfy riparian water rights upstream of Gravelly Ford and flood releases. Consequently, the reach from Gravelly Ford to Mendota Pool is often dry.

The ROD also recognized that releases of water from Friant Dam to the San Joaquin River could result in improved water quality in the San Joaquin River. Water quality in various segments of the San Joaquin River has been a problem for several decades due to low flow and discharges from agricultural areas, wildlife refuges, and municipal and industrial treatment plants. Initial locations of concern for water quality include areas near Stockton and at Vernalis, downstream of the Stanislaus River as the San Joaquin River enters the Delta. Over time, the requirements for water quality in the river have become more stringent, and the number of locations along the river at which specific water quality objectives are identified has increased.

Additional storage in the Upper San Joaquin River Basin could also result in increased reliability of surface water deliveries to CVP Friant Division contractors or other regional water users that could receive water through CVP facilities. Delivery of additional surface water would result in reduced groundwater overdraft conditions regionally, and would provide greater stability in regional water supplies. This improved reliability would increase opportunities for water exchanges with urban water users to improve the quality of urban water supplies.

The development of additional water storage could also provide opportunities to increase levels of flood protection downstream of Friant Dam, provide hydropower generation, increase recreation opportunities, and improve flows into the Delta.

Reclamation, in partnership with the State of California Department of Water Resources, has completed initial studies of potential storage options. Public outreach has included informal coordination with farmers, water districts, State and Federal agencies, tribal interests, and other interested stakeholders to identify options that will be considered in detail in the feasibility report and EIS. In October 2003, Reclamation and DWR released a Phase 1 Investigation Report that provided information on preliminary alternatives under consideration. Project documents are available at http://www.usbr.gov/mp/sccao.

The environmental review will be conducted pursuant to NEPA, the Endangered Species Act and other applicable laws, to analyze the potential environmental impacts of implementing each of the feasible alternatives. All reasonable alternatives as required by NEPA and its implementing regulations will be considered. Public input on additional alternatives, or a combinations of alternatives, that should be considered will be sought through the initial scoping meetings. In addition, public input will be sought on the criteria that should be used to carry forward alternatives, or a combination of alternatives, for further consideration.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: December 2, 2003.
Frank Michny,
Regional Environmental Officer, Mid-Pacific Region.

[FR Doc. 04-1424 Filed 2-2-04; 8:45 am]

BILLING CODE 4310-MN-P